Proclamation 10017 of April 29, 2020

Jewish American Heritage Month, 2020

By the President of the United States of America

A Proclamation

In 1654, the first Jewish settlers arrived in New Amsterdam, present day New York City, seeking the freedom to practice their faith. In the centuries since, Jewish Americans have contributed in countless ways to our country's culture and character. From the arts and sciences to business and public service, nearly every facet of our society has benefitted from the talent, inspiration, vision, expertise, ingenuity, and sacrifice of Jewish Americans. We honor their spirit and resiliency during Jewish American Heritage Month and celebrate the myriad of ways they enrich our country and the world.

Throughout history, the Jewish people have demonstrated an unbreakable spirit, overcoming suffering, cruel oppression, violence, and bigotry. Tragically, Jewish men, women, and children continue to face anti-Semitic discrimination, persecution, and violence today, and Jewish institutions and places of worship remain targets of vandalism and destruction. Our country has wept too many times in the aftermaths of horrific attacks, including last April when a murderer opened fire in a synagogue in Poway, California, taking innocent life and shattering families in a cowardly display of evil. Such unconscionable acts are an abomination to all decent and compassionate people. Hatred is intolerable and has no place in our hearts or in our society. We must therefore vigorously confront anti-Semitic discrimination and violence against members of the Jewish community. That is why I signed an Executive Order last December, bolstering my Administration's efforts to combat the rise of anti-Semitism in the United States and build a culture of respect, humanity, and equality.

This month, we reaffirm our commitment to never compromise our steadfast support for the Jewish community, our rejection of anti-Semitic bigotry, and our disdain for malicious attacks of hatred. Jewish Americans strengthen, sustain, and inspire our country through dedication to family, respect for cherished traditions, and commitment to the values of justice and equality that unite Americans of every faith and background. We give thanks for the profound contributions that Jewish Americans continue to make to our society, and way of life.

NOW, THEREFORE, I, DONALD J. TRUMP, President of the United States of America, by virtue of the authority vested in me by the Constitution and the laws of the United States, do hereby proclaim May 2020 as Jewish American Heritage Month. I call upon Americans to celebrate the heritage and contributions of American Jews and to observe this month with appropriate programs, activities, and ceremonies.

IN WITNESS WHEREOF, I have hereunto set my hand this twenty-ninth day of April, in the year of our Lord two thousand twenty, and of the Independence of the United States of America the two hundred and forty-fourth.

[FR Doc. 2020-09643

Filed 5-1-20; 11:15 am]

Billing code 3295-F0-P